FEDERAL COMMUNICATIONS COMMISSION

[DA 24-949; FR ID 246811]

Disability Advisory Committee; Announcement of Meeting

AGENCY: Federal Communications Commission.

ACTION: Notice.

SUMMARY: In this document, the Commission announces the fifth and final meeting of the fifth term of its Disability Advisory Committee (DAC or Committee).

DATES: Friday, October 18, 2024. The meeting will come to order at 9:00 a.m. Eastern Standard Time.

ADDRESSES: The DAC meeting will be held in the Commission Meeting Room at FCC Headquarters, located at 45 L Street NE, Washington, DC 20554.

FOR FURTHER INFORMATION CONTACT: Molly Burgdorf, Deputy Designated Federal Officer, Federal Communications Commission, (202) 418-2173, or email: dac@fcc.gov.

SUPPLEMENTARY INFORMATION: This meeting is open to members of the general public. The meeting will be webcast with sign language interpreters and open captioning at: www.fcc.gov/ live. In addition, a reserved amount of time will be available on the agenda for comments and inquiries from the public. Members of the public may comment or ask questions of presenters via livequestions@fcc.gov.

Requests for other reasonable accommodations or for materials in accessible formats for people with disabilities should be submitted via email to: fcc504@fcc.gov or by calling the Consumer and Governmental Affairs Bureau at (202) 418-0530. Such requests should include a detailed description of the accommodation needed and a way for the FCC to contact the requester if more information is needed to fill the request. Requests should be made as early as possible; last minute requests will be accepted but may not be possible to accommodate.

Proposed Agenda: At this meeting, the DAC is expected to (1) discuss reports and recommendations from the working groups on quality Telecommunications Relay Services for individuals with multiple disabilities, online gaming accessibility for individuals who are blind or have low vision, and the use of artificial intelligence to caption live video programming; and (2) address any other topics relevant to the DAC's work.

Federal Communications Commission.
Joshua Mendelsohn,
Acting Chief, Disability Rights Office, Consumer and Governmental Affairs Bureau.

[FR Doc. 2024-21778 Filed 9-24-24; 8:45 am]

BILLING CODE 6712-01-P